Proclamation 7354 of October 6, 2000

Fire Prevention Week, 2000

By the President of the United States of America

A Proclamation

Each year, fire takes a heavy toll on the lives and property of thousands of Americans. Approximately 100 firefighters and 4,000 civilians die in fires annually; some 25,000 civilians sustain injuries and an average of $8 billion in property is destroyed. Last year alone, America's fire departments responded to almost 2 million fires. Most of these fires occurred in homes, as did 80 percent of last year's fire fatalities. It is clear from these tragic statistics that if we can better educate Americans about fire safety and prevention, we can save thousands of lives every year.

The most important lesson we can teach about fire is how rapidly it can spread. From the time a smoke alarm sounds in a typical home, a family may have as little as 2 minutes to escape safely. Knowing how to use those minutes wisely is the key to survival. I urge every American to develop and practice regularly a home fire escape plan that identifies two ways out of each room and establishes a meeting place where household members can reunite outside the home. In addition, it is crucial that smoke alarms be installed and properly maintained on every level of the home.

To raise public awareness of the importance of home fire escape plans, the National Fire Protection Association, in partnership with the Federal Emergency Management Agency through its United States Fire Administration and America's fire departments, launched a 3-year program in 1998 called “Fire Drills: The Great Escape!” To date, this program is credited with saving at least 58 lives. In support of this program, on Wednesday, October 11, at 7:00 p.m. local time, fire departments in communities across America will sound the alarm signaling the start of “The Great Escape” fire drill to test the effectiveness of families' fire escape plans. I encourage all Americans to participate in this important and potentially lifesaving event.

As we observe this week, let us also express our pride in and gratitude for the devoted service of our Nation's firefighters and emergency response personnel. They uphold our country's finest values—commitment and community, teamwork and trust, courage and sacrifice. Day in and day out, these extraordinary men and women put their lives on the line to protect our families and our property from the devastating effects of fire, and many of them pay the ultimate price for their devotion. We will honor their memory on Sunday, October 8, 2000, at the National Fallen Firefighters Memorial Service in Emmitsburg, Maryland.

NOW, THEREFORE, I, WILLIAM J. CLINTON, President of the United States of America, by virtue of the authority vested in me by the Constitution and laws of the United States, do hereby proclaim October 8 through October 14, 2000, as Fire Prevention Week. I encourage the people of the United States to take an active role in fire prevention not only during this week, but also throughout the year. I call upon every citizen to pay tribute to our firefighters and emergency response personnel who have lost their lives or been injured in the line of duty and to those brave men and women who carry on their noble tradition of service.

IN WITNESS WHEREOF, I have hereunto set my hand this sixth day of October, in the year of our Lord two thousand, and of the Independence of the United States of America the two hundred and twenty-fifth.

wj

[FR Doc. 00-26392

Filed 10-11-00; 8:45 am]

Billing code 3195-01-P